DEPARTMENT OF TRANSPORTATION

Federal Aviation Administration

14 CFR Part 71

[Docket No. FAA-2017-0798; Amendment No. 71-49]

Airspace Designations; Incorporation by Reference Amendments

AGENCY: Federal Aviation Administration (FAA), DOT.

ACTION: Final rule, technical amendment.

SUMMARY: This action incorporates certain amendments into FAA Order 7400.11B, dated August 3, 2017, and effective September 15, 2017, for incorporation by reference in 14 CFR 71.1.

DATES: Effective date 0901 UTC October 11, 2017. The Director of the Federal Register approves this incorporation by reference action under 1 CFR part 51, subject to the annual revision of FAA Order 7400.11 and publication of conforming amendments.

ADDRESSES: FAA Order 7400.11B, Airspace Designations and Reporting Points, and subsequent amendments can be viewed on line at http://www.faa.gov/airtraffic/publications/. For further information, you can contact the Airspace Policy Group, Federal Aviation Administration, 800 Independence Avenue SW., Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Sarah A. Combs, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

History

Federal Aviation Administration Airspace Order 7400.11, Airspace Designations and Reporting Points, incorporated by reference in 14 CFR 71.1, is published yearly. Amendments referred to as “effective date straddling amendments” were published under Order 7400.11A (dated August 3, 2016, and effective September 15, 2016), but became effective under Order 7400.11B (dated August 3, 2017, and effective September 15, 2017). This action incorporates these rules into the current FAA Order 7400.11B.

Accordingly, as this is an administrative correction to update final rule amendments into FAA Order 7400.11B, notice and public procedure under 5 U.S.C. 553(b) are unnecessary. Also, to bring these rules and legal descriptions current, I find that good cause exists, under 5 U.S.C. 553(d), for making this amendment effective in less than 30 days.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This action amends title 14 Code of Federal Regulations (14 CFR) part 71 to incorporate certain final rules into the current FAA Order 7400.11B, Airspace Designations and Reporting Points, dated August 3, 2017, and effective September 15, 2017, which are depicted on aeronautical charts.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

List of Subjects in 14 CFR Part 71

Airspace, Incorporation by reference, Navigation (air).

Adoption of the Amendment

In consideration of the foregoing, the FAA amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. Section 71.1 is revised to read as follows:

For Docket No. FAA-2016-9118; Airspace Docket No. 16-AGL-3 (82 FR 28401, June 22, 2017). On page 28401, column 3, line 59, under ADDRESSES remove “. . . FAA Order 7400.11 . . .” and add in its place “. . . FAA Order 7400.11B. . .”. On page 28402, column 1, line 10, under ADDRESSES; and on page 28402, column 2, line 53, and line 56, under Availability and Summary of Documents for Incorporation by Reference remove “. . . FAA Order 7400.11A . . .” and add in its place “. . .FAA Order 7400.11B. . .”. On page 28402, column 2, line 40, under History remove “. . . FAA Order 7400.11A dated August 3, 2016, and effective September 15, 2016, . . .” and add in its place “. . .FAA Order 7400.11B dated August 3, 2017, and effective September 15, 2017 . . .”. On page 28402, column 2, line 50, under Availability and Summary of Documents for Incorporation by Reference; and on page 28403, column 1, line 41, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2015-6751; Airspace Docket No. 15-AWP-18 (82 FR 31440, July 7, 2017). On page 31440, column 3, line 39, under ADDRESSES; and on page 31441, column 1, line 57, and line 60, under Availability and Summary of Documents for Incorporation by Reference remove “. . . FAA Order 7400.11A . . .” and add in its place “. . . FAA Order 7400.11B . . .”. On page 31441, column 1, line 44, under History remove “. . . FAA Order 7400.11A dated August 3, 2016, and effective September 15, 2016, . . .” and add in its place “. . . FAA Order 7400.11B dated August 3, 2017, and effective September 15, 2017 . . .”. On page 31441, column 1, line 54, under Availability and Summary of Documents for Incorporation by Reference; and on page 31441, column 3, line 58, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2016-9544; Airspace Docket No. 16-ASW-22 (82 FR 32450, July 14, 2017). On page 32450, column 2, line 24, and line 37, under ADDRESSES; and on page 32450, column 3, line 57, and line 60, under Availability and Summary of Documents for Incorporation by Reference remove “. . . FAA Order 7400.11A . . .” and add in its place “. . . FAA Order 7400.11B . . .”. On page 32450, column 3, line 43, under History remove “. . . FAA Order 7400.11A dated August 3, 2016, and effective September 15, 2016, . . .” and add in its place “. . . FAA Order 7400.11B dated August 3, 2017, and effective September 15, 2017 . . .”. On page 32450, column 3, line 54, under Availability and Summary of Documents for Incorporation by Reference; and on page 32451, column 2, line 56, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2016-9480; Airspace Docket No. 16-AEA-13 (82 FR 33790, July 21, 2017). On page 33790, column 2, line 6, and line 19, under ADDRESSES; and on page 33790, column 3, line 35, and line 38, under Availability and Summary of Documents for Incorporation by Reference remove “. . . FAA Order 7400.11A . . .” and add in its place “. . . FAA Order 7400.11B . . .”. On page 33790, column 3, line 21, under History remove “. . . FAA Order 7400.11A dated August 3, 2016, and effective September 15, 2016, . . .” and add in its place “. . . FAA Order 7400.11B dated August 3, 2017, and effective September 15, 2017 . . .”. On page 33790, column 3, line 32, under Availability and Summary of Documents for Incorporation by Reference; and on page 33791, column 1, line 55, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2016-9488; Airspace Docket No. 16-ASO-18 (82 FR 33792, July 21, 2017). On page 33793, column 1, line 9, and line 22, under ADDRESSES; and on page 33793, column 2, line 24, and line 27, under Availability and Summary of Documents for Incorporation by Reference; and on page 33793, column 2, line 46, under The Rule remove “. . . FAA Order 7400.11A . . .” and add in its place “. . . FAA Order 7400.11B . . .”. On page 33793, column 2, line 10, under History remove “. . . FAA Order 7400.11A dated August 3, 2016, and effective September 15, 2016, . . .” and add in its place “. . . FAA Order 7400.11B dated August 3, 2017, and effective September 15, 2017 . . .”. On page 33793, column 2, line 21, under Availability and Summary of Documents for Incorporation by Reference; and on page 33793, column 3, line 37, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0070; Airspace Docket No. 17-ASO-2 (82 FR 33794, July 21, 2017). On page 33794, column 1, line 31, and line 45, under ADDRESSES; and on page 33794, column 2, line 57, and line 60, under Availability and Summary of Documents for Incorporation by Reference remove “. . . FAA Order 7400.11A . . .” and add in its place “. . . FAA Order 7400.11B . . .”. On page 33794, column 2, line 43, under History remove “. . . FAA Order 7400.11A dated August 3, 2016, and effective September 15, 2016, . . .” and add in its place “. . . FAA Order 7400.11B dated August 3, 2017, and effective September 15, 2017 . . .”. On page 33794, column 2, line 54, under Availability and Summary of Documents for Incorporation by Reference; and on page 33795, column 1, line 3, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0071; Airspace Docket No. 17-ASO-3 (82 FR 33795, July 21, 2017). On page 33795, column 1, line 56, and column 2, line 10, under ADDRESSES; and on page 33795, column 3, line 17, and line 20, under Availability and Summary of Documents for Incorporation by Reference remove “. . . FAA Order 7400.11A . . .” and add in its place “. . . FAA Order 7400.11B . . .”. On page 33795, column 3, line 4, under History remove “. . . FAA Order 7400.11A dated August 3, 2016, and effective September 15, 2016, . . .” and add in its place “. . . FAA Order 7400.11B dated August 3, 2017, and effective September 15, 2017 . . .”. On page 33795, column 3, line 14, under Availability and Summary of Documents for Incorporation by Reference; and on page 33796, column 1, line 34, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0195; Airspace Docket No. 16-ANM-14 (82 FR 33796, July 21, 2017). On page 33796, column 2, line 39, under ADDRESSES; and on page 33797, column 1, line 1, and line 4, under Availability and Summary of Documents for Incorporation by Reference remove “. . . FAA Order 7400.11A . . .” and add in its place “. . . FAA Order 7400.11B . . .”. On page 33796, column 3, line 53, under History remove “. . . FAA Order 7400.11A dated August 3, 2016, and effective September 15, 2016, . . .” and add in its place “. . . FAA Order 7400.11B dated August 3, 2017, and effective September 15, 2017 . . .”. On page 33796, column 3, line 64, under Availability and Summary of Documents for Incorporation by Reference; and on page 33797, column 2, line 52, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2013-0442; Airspace Docket No. 13-ASO-12 (82 FR 33798, July 21, 2017). On page 33798, column 1, line 30, and line 43, under ADDRESSES; and on page 33798, column 2, line 51, and line 54, under Availability and Summary of Documents for Incorporation by Reference remove “. . . FAA Order 7400.11A . . .” and add in its place “. . . FAA Order 7400.11B . . .”. On page 33798, column 2, line 36, under History remove “. . . FAA Order 7400.11A dated August 3, 2016, and effective September 15, 2016, . . .” and add in its place “. . . FAA Order 7400.11B dated August 3, 2017, and effective September 15, 2017 . . .”. On page 33798, column 2, line 48, under Availability and Summary of Documents for Incorporation by Reference remove “. . . FAA Order 7400.11A, Airspace Designations and Reporting Points, dated August 3, 2016, and effective September 15, 2016, . . .” and add in its place “. . . FAA Order 7400.11B, Airspace Designations and Reporting Points, dated August 3, 2017, and effective September 15, 2017, . . .”. On page 33798, column 3, line 56, under Amendatory Instruction 2 remove “. . . Federal Aviation Administration Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0237; Airspace Docket No. 16-ANM-10 (82 FR 35057, July 28, 2017). On page 35057, column 2, line 51, under ADDRESSES; and on page 35058, column 1, line 17, and line 20, under Availability and Summary of Documents for Incorporation by Reference remove “. . . FAA Order 7400.11A . . .” and add in its place “. . . FAA Order 7400.11B . . .”. On page 35058, column 1, line 4, under History remove “. . . FAA Order 7400.11A dated August 3, 2016, and effective September 15, 2016, . . .” and add in its place “. . . FAA Order 7400.11B dated August 3, 2017, and effective September 15, 2017 . . .”. On page 35058, column 1, line 14, under Availability and Summary of Documents for Incorporation by Reference; and on page 35058, column 2, line 29, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2016-9474; Airspace Docket No. 16-AWP-24 (82 FR 35058, July 28, 2017). On page 35058, column 3, line 33, under ADDRESSES; and on page 35059, column 1, line 65, and column 2, line 2, under Availability and Summary of Documents for Incorporation by Reference remove “. . . FAA Order 7400.11A . . .” and add in its place “. . . FAA Order 7400.11B . . .”. On page 35059, column 1, line 52, under History remove “. . . FAA Order 7400.11A dated August 3, 2016, and effective September 15, 2016, . . .” and add in its place “. . . FAA Order 7400.11B dated August 3, 2017, and effective September 15, 2017 . . .”. On page 35059, column 1, line 62, under Availability and Summary of Documents for Incorporation by Reference; and on page 35059, column 3, line 38, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0258; Airspace Docket No. 16-AWP-15 (82 FR 35060, July 28, 2017). On page 35060, column 2, line 3, under ADDRESSES; and on page 35060, column 3, line 20, and line 23, under Availability and Summary of Documents for Incorporation by Reference remove “. . . FAA Order 7400.11A . . .” and add in its place “. . . FAA Order 7400.11B . . .”. On page 35060, column 3, line 7, under History remove “. . . FAA Order 7400.11A dated August 3, 2016, and effective September 15, 2016, . . .” and add in its place “. . . FAA Order 7400.11B dated August 3, 2017, and effective September 15, 2017 . . .”. On page 35060, column 3, line 17, under Availability and Summary of Documents for Incorporation by Reference; and on page 35061, column 1, line 56, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0046; Airspace Docket No. 17-AWP-3 (82 FR 35061, July 28, 2017). On page 35061, column 2, line 52, under ADDRESSES; and on page 35062, column 1, line 7, and line 10, under Availability and Summary of Documents for Incorporation by Reference remove “. . . FAA Order 7400.11A . . .” and add in its place “. . . FAA Order 7400.11B . . .”. On page 35061, column 3, line 57, under History remove “. . . FAA Order 7400.11A dated August 3, 2016, and effective September 15, 2016, . . .” and add in its place “. . . FAA Order 7400.11B dated August 3, 2017, and effective September 15, 2017 . . .”. On page 35062, column 1, line 4, under Availability and Summary of Documents for Incorporation by Reference; and on page 35062, column 2, line 21, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0315; Airspace Docket No. 17-ANM-5 (82 FR 35438, July 31, 2017). On page 35438, column 2, line 41, under ADDRESSES; and on page 35438, column 3, line 59, and line 62, under Availability and Summary of Documents for Incorporation by Reference remove “. . . FAA Order 7400.11A . . .” and add in its place “. . . FAA Order 7400.11B . . .”. On page 35438, column 3, line 46, under History remove “. . . FAA Order 7400.11A dated August 3, 2016, and effective September 15, 2016, . . .” and add in its place “. . . FAA Order 7400.11B dated August 3, 2017, and effective September 15, 2017 . . .”. On page 35438, column 3, line 56, under Availability and Summary of Documents for Incorporation by Reference; and on page 35439, column 2, line 12, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0210; Airspace Docket No. 17-AGL-10 (82 FR 35649, August 1, 2017). On page 35649, column 3, line 13, and line 26, under ADDRESSES; and on page 35650, column 2, line 7, and line 10, under Availability and Summary of Documents for Incorporation by Reference remove “. . . FAA Order 7400.11A . . .” and add in its place “. . . FAA Order 7400.11B . . .”. On page 35650, column 1, line 57, under History remove “. . . FAA Order 7400.11A dated August 3, 2016, and effective September 15, 2016, . . .” and add in its place “. . . FAA Order 7400.11B dated August 3, 2017, and effective September 15, 2017 . . .”. On page 35650, column 2, line 4, under Availability and Summary of Documents for Incorporation by Reference; and on page 35650, column 3, line 47, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2016-8162; Airspace Docket No. 17-ANM-12 (82 FR 36077, August 3, 2017). On page 36077, column 1, line 48, under ADDRESSES; and on page 36077, column 3, line 20, and line 23, under Availability and Summary of Documents for Incorporation by Reference remove “. . . FAA Order 7400.11A . . .” and add in its place “. . . FAA Order 7400.11B . . .”. On page 36077, column 3, line 7, under History remove “. . . FAA Order 7400.11A dated August 3, 2016, and effective September 15, 2016, . . .” and add in its place “. . . FAA Order 7400.11B dated August 3, 2017, and effective September 15, 2017 . . .”. On page 36077, column 3, line 17, under Availability and Summary of Documents for Incorporation by Reference; and on page 36078, column 2, line 16, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017,. . .”.

For Docket No. FAA-2017-0355; Airspace Docket No. 17-AGL-12 (82 FR 36078, August 3, 2017). On page 36079, column 1, line 9, and line 22, under ADDRESSES; and on page 36079, column 2, line 27, and line 30, under Availability and Summary of Documents for Incorporation by Reference remove “. . . FAA Order 7400.11A . . .” and add in its place “. . . FAA Order 7400.11B . . .”. On page 36079, column 2, line 14, under History remove “. . . FAA Order 7400.11A dated August 3, 2016, and effective September 15, 2016, . . .” and add in its place “. . . FAA Order 7400.11B dated August 3, 2017, and effective September 15, 2017 . . .”. On page 36079, column 2, line 24, under Availability and Summary of Documents for Incorporation by Reference; and on page 36079, column 3, line 57, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0297; Airspace Docket No. 16-AWP-4 (82 FR 37514, August 11, 2017). On page 37514, column 3, line 20, under ADDRESSES; and on page 37515, column 1, line 33, and line 36, under Availability and Summary of Documents for Incorporation by Reference remove “. . . FAA Order 7400.11A . . .” and add in its place “. . . FAA Order 7400.11B . . .”. On page 37515, column 1, line 20, under History remove “. . . FAA Order 7400.11A dated August 3, 2016, and effective September 15, 2016, . . .” and add in its place “. . . FAA Order 7400.11B dated August 3, 2017, and effective September 15, 2017 . . .”. On page 37515, column 1, line 30, under Availability and Summary of Documents for Incorporation by Reference; and on page 37515, column 2, line 44, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0287; Airspace Docket No. 17-ACE-6 (82 FR 38821, August 16, 2017). On page 38821, column 1, line 44, and column 2, line 1, under ADDRESSES; and on page 38821, column 3, line 12, and line 15, under Availability and Summary of Documents for Incorporation by Reference remove “. . . FAA Order 7400.11A . . .” and add in its place “. . . FAA Order 7400.11B . . .”. On page 38821, column 2, line 59, under History remove “. . . FAA Order 7400.11A dated August 3, 2016, and effective September 15, 2016, . . .” and add in its place “. . . FAA Order 7400.11B dated August 3, 2017, and effective September 15, 2017 . . .”. On page 38821, column 3, line 9, under Availability and Summary of Documents for Incorporation by Reference; and on page 38822, column 1, line 35, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0298; Airspace Docket No. 17-ASW-7 (82 FR 38822, August 16, 2017). On page 38822, column 2, line 34, and line 47, under ADDRESSES; and on page 38822, column 3, line 49, and line 52, under Availability and Summary of Documents for Incorporation by Reference remove “. . . FAA Order 7400.11A . . .” and add in its place “. . . FAA Order 7400.11B . . .”. On page 38822, column 3, line 36, under History remove “. . . FAA Order 7400.11A dated August 3, 2016, and effective September 15, 2016, . . .” and add in its place “. . . FAA Order 7400.11B dated August 3, 2017, and effective September 15, 2017 . . .”. On page 38822, column 3, line 46, under Availability and Summary of Documents for Incorporation by Reference; and on page 38823, column 2, line 6, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0109; Airspace Docket No. 16-ASO-13 (82 FR 39532, August 21, 2017). On page 39532, column 1, line 33, and line 46, under ADDRESSES; and on page 39532, column 3, line 49, and line 52, under Availability and Summary of Documents for Incorporation by Reference remove “. . . FAA Order 7400.11A . . .” and add in its place “. . . FAA Order 7400.11B . . .”. On page 39532, column 3, line 36, under History remove “. . . FAA Order 7400.11A dated August 3, 2016, and effective September 15, 2016, . . .” and add in its place “. . . FAA Order 7400.11B dated August 3, 2017, and effective September 15, 2017 . . .”. On page 39532, column 3, line 46, under Availability and Summary of Documents for Incorporation by Reference; and on page 39533, column 2, line 28, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0296; Airspace Docket No. 17-ACE-7 (82 FR 40692, August 28, 2017). On page 40693, column 1, line 24, and line 37, under ADDRESSES; and on page 40693, column 2, line 39, and line 42, under Availability and Summary of Documents for Incorporation by Reference remove “. . . FAA Order 7400.11A . . .” and add in its place “. . . FAA Order 7400.11B . . .”. On page 40693, column 2, line 26, under History remove “. . . FAA Order 7400.11A dated August 3, 2016, and effective September 15, 2016, . . .” and add in its place “. . . FAA Order 7400.11B dated August 3, 2017, and effective September 15, 2017 . . .”. On page 40693 column 2, line 36 under Availability and Summary of Documents for Incorporation by Reference; and on page 40693, column 3, line 57, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0182; Airspace Docket No. 17-ASW-3 (82 FR 40694, August 28, 2017). On page 40694, column 1, line 54, and column 2, line 7, under ADDRESSES; and on page 40694, column 3, line 9, and line 12, under Availability and Summary of Documents for Incorporation by Reference remove “. . . FAA Order 7400.11A . . .” and add in its place “. . . FAA Order 7400.11B . . .”. On page 40694, column 2, line 62, under History remove “. . . FAA Order 7400.11A dated August 3, 2016, and effective September 15, 2016, . . .” and add in its place “. . . FAA Order 7400.11B dated August 3, 2017, and effective September 15, 2017 . . .”. On page 40694 column 3, line 6, under Availability and Summary of Documents for Incorporation by Reference; and on page 40695, column 1, line 28, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0165; Airspace Docket No. 17-ACE-1 (82 FR 40695, August 28, 2017). On page 40695, column 2, line 35, and line 48, under ADDRESSES; and on page 40695, column 3, line 62, and line 65, under Availability and Summary of Documents for Incorporation by Reference remove “. . . FAA Order 7400.11A . . .” and add in its place “. . . FAA Order 7400.11B . . .”. On page 40695, column 3, line 39, under History remove “. . . FAA Order 7400.11A dated August 3, 2016, and effective September 15, 2016, . . .” and add in its place “. . . FAA Order 7400.11B dated August 3, 2017, and effective September 15, 2017 . . .”. On page 40695 column 3, line 59 under Availability and Summary of Documents for Incorporation by Reference; and on page 40696, column 2, line 6, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0722; Airspace Docket No. 17-AGL-16 (82 FR 40696, August 28, 2017). On page 40696, column 2, line 56, and column 3, line 10, under ADDRESSES; and on page 40697, column 1, line 13, and line 16, under Availability and Summary of Documents for Incorporation by Reference remove “. . . FAA Order 7400.11A . . .” and add in its place “. . . FAA Order 7400.11B . . .”. On page 40696, column 3, line 66, under History remove “. . . FAA Order 7400.11A dated August 3, 2016, and effective September 15, 2016, . . .” and add in its place “. . . FAA Order 7400.11B dated August 3, 2017, and effective September 15, 2017 . . .”. On page 40697 column 1, line 10 under Availability and Summary of Documents for Incorporation by Reference; and on page 40697, column 2, line 36, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2017-0184; Airspace Docket No. 17-ASW-5 (82 FR 40697, August 28, 2017). On page 40697, column 3, line 32, and line 45, under ADDRESSES; and on page 40698, column 1, line 45, under History; and on page 40698, column 1, line 57, and line 60, under Availability and Summary of Documents for Incorporation by Reference; and on page 40698, column 2, line 17 remove “. . . FAA Order 7400.11A . . .” and add in its place “. . . FAA Order 7400.11B . . .”. On page 40698, column 1, line 39, under History remove “. . . FAA Order 7400.11A dated August 3, 2016, and effective September 15, 2016, . . .” and add in its place “. . . FAA Order 7400.11B dated August 3, 2017, and effective September 15, 2017 . . .”. On page 40698 column 1, line 54, under Availability and Summary of Documents for Incorporation by Reference; and on page 40698, column 3, line 16, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

For Docket No. FAA-2016-9593; Airspace Docket No. 16-ACE-12 (82 FR 42445, September 8, 2017). On page 42446, column 1, line 19, and line 32, under ADDRESSES; and on page 42446, column 2, line 31, and line 34, under Availability and Summary of Documents for Incorporation by Reference remove “. . . FAA Order 7400.11A . . .” and add in its place “. . . FAA Order 7400.11B . . .”. On page 42446, column 2, line 18, under History remove “. . . FAA Order 7400.11A dated August 3, 2016, and effective September 15, 2016, . . .” and add in its place “. . . FAA Order 7400.11B dated August 3, 2017, and effective September 15, 2017 . . .”. On page 42446 column 2, line 28, under Availability and Summary of Documents for Incorporation by Reference; and on page 42446, column 3, line 42, under Amendatory Instruction 2 remove “. . . FAA Order 7400.11A, Airspace Designations and Reporting Points, dated August 3, 2016, and effective September 15, 2016, . . .” and add in its place “. . . FAA Order 7400.11B, Airspace Designations and Reporting Points, dated August 3, 2017, and effective September 15, 2017, . . .”.

Issued in Washington, DC, on October 3, 2017.
Scott M. Rosenbloom,
Acting Manager, Airspace Policy Group.

[FR Doc. 2017-21782 Filed 10-10-17; 8:45 am]

BILLING CODE 4910-13-P